DEPARTMENT OF ENERGY

Federal Energy Regulatory Commission

[Docket No. CP03-76-000]

Norteno Pipeline Company and OkTex Pipeline Company; Notice of Application

April 24, 2003.

Take notice that on March 31, 2003, Norteno Pipeline Company (Norteno) and OkTex Pipeline Company (OkTex) (collectively, Applicants), both located at 100 West Fifth Street, Tulsa, Oklahoma 74103, filed with the Federal Energy Regulatory Commission (Commission) in Docket No. CP03-76-000, a joint application pursuant to Sections 7(b) and 7(c) of the Natural Gas Act (NGA) and part 157 of the Commission's regulations for authorization for Norteno to abandon and OkTex to acquire and operate Norteno's interstate pipeline facilities located in Texas and New Mexico, as more fully described in the application. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866)208-3676, or for TTY, contact (202)502-8659.

Applicants state that Norteno's system consists of two short pipelines that cross the Texas/New Mexico border (Southern Division facilities) and three pipelines that cross the United States/Mexico International Boundary line at El Paso Texas (Del Norte facilities). Norteno and OkTex are both wholly owned subsidiaries of ONEOK, Inc. The transfer of facilities is said to be in the nature of a corporate restructuring and will not result in any change or interruption in service to Applicant's shippers. The applicants state that upon approval of the authorization requested, OkTex will operate the facilities as part of its interstate pipeline system and will provide open access transportation service to shippers requesting service on these facilities pursuant to the terms and conditions of OkTex's FERC Gas Tariff. Since Norteno will then have no facilities in interstate commerce, Norteno requests the Commission to release it from all obligations under the NGA and Commission regulations and to cancel its tariffs.

On April 15, 2003, Applicants filed related applications in Docket Nos. CP03-99-000 and CP03-100-000 to allow OkTex to succeed to Norteno's existing Presidential Permit and Section 3 authority, respectively, related to the transferred border crossing facilities.

Any questions regarding this application should be directed to Vivian C. Hale, Gabel & Gotwals, 1100 ONEOK Plaza, 100 West Fifth Street, Tulsa, Oklahoma 74103-4217, or call (918)595-4822 or FAX (918)595-4990.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project.

This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Protests and interventions may be filed electronically via the internet in lieu of paper; see 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

Comment Date: May 15, 2003.

Magalie R. Salas,
Secretary.

[FR Doc. 03-10619 Filed 4-29-03; 8:45 am]

BILLING CODE 6717-01-P